DEPARTMENT OF COMMERCE

National Oceanic and Atmospheric Administration

[I.D. 103106C]

Endangered and Threatened Species; Take of Anadromous Fish

AGENCY: National Marine Fisheries Service (NMFS), National Oceanic and Atmospheric Administration (NOAA), Commerce.

ACTION: Receipt of applications for scientific research permits and permit modifications.

SUMMARY: Notice is hereby given that NMFS has received ten scientific research permit application requests relating to Pacific salmon. The proposed research is intended to increase knowledge of species listed under the Endangered Species Act (ESA) and to help guide management and conservation efforts.

DATES: Comments or requests for a public hearing on the applications must be received at the appropriate address or fax number (see ADDRESSES) no later than 5 p.m. Pacific standard time on December 8, 2006.

ADDRESSES: The applications are available online at http://www.nwr.noaa.gov/ESA-Salmon-Regulations-Permits/Section-10-Permits/Scientific-Research-Authorizations/Appls-for-Cmnt.cfm. Written comments on the applications should be sent to the Protected Resources Division, NMFS, 1201 NE Lloyd Blvd., Suite 1100, Portland, OR 97232-1274. Comments may also be sent via fax to 503-230-5441 or by e-mail to resapps.nwr@NOAA.gov.

FOR FURTHER INFORMATION CONTACT: Garth Griffin, Portland, OR (ph.: 503-231-2005, Fax: 503-230-5441, e-mail: Garth.Griffin@noaa.gov). Permit application instructions are available from the address above.

SUPPLEMENTARY INFORMATION:

Species Covered in This Notice

The following listed species are covered in this notice:

Chinook salmon (Oncorhynchus tshawytscha): threatened lower Columbia River (LCR), endangered upper Columbia River (UCR), threatened Snake River (SR) spring/summer-run, threatened SR fall-run, threatened Puget Sound (PS).

Chum salmon (O. keta): threatened Columbia River (CR), threatened Hood Canal (HC).

Steelhead (O. mykiss): threatened LCR, threatened middle Columbia River (MCR), threatened Snake River (SR), threatened UCR, proposed threatened PS.

Coho salmon (O. kisutch): threatened LCR.

Sockeye salmon (O. nerka): threatened Ozette Lake (OL).

Authority

Scientific research permits are issued in accordance with section 10(a)(1)(A) of the ESA (16 U.S.C. 1531 et. seq) and regulations governing listed fish and wildlife permits (50 CFR parts 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1175—Modification 1

The Gifford Pinchot National Forest (GPNF) is requesting a 5-year research permit to take juvenile PS Chinook salmon, LCR Chinook salmon, LCR coho salmon, and LCR steelhead. It would also take juvenile PS steelhead. The purpose of this research is to determine fish species presence and distribution, record fish habitat conditions, and inventory spawning areas on the GPNF. The information would be used in broad-scale analyses (e.g. watershed analysis) and project-level planning (e.g., timber sales and habitat restoration projects). The research would benefit listed salmonids by providing the GPNF with information to improve forest management. Permit 1175 has been in place for almost 5 years and is due to expire on December 31, 2006. The GPNF would observe/harass adult and juvenile salmonids during spawner and redd counts, snorkel surveys, and habitat surveys. The GPNF would also capture (using backpack electrofishing equipment or seines), handle, and release juvenile salmonids. The GPNF does not intend to kill any fish being captured, but a small number of fish may die as an unintentional result of the research activities.

Permit 1313—Modification 1

Pentec Environmental (Pentec) is requesting a 4-year research permit to take Puget Sound Chinook salmon associated with research to be conducted in Port Gardner and the Snohomish River estuary, Washington. It would also take juvenile PS steelhead. The purpose of the research is to monitor juvenile salmonid use of habitat restoration sites. The habitat restoration work was conducted by the Port of Everett in 2002 and monitoring has continued (under this permit) since then. Permit 1313 is due to expire on December 31, 2006. The habitat restoration projects were designed to improve salmonid rearing and migration habitat, and the research would benefit the fish by helping managers learn the effectiveness of those measures. Juvenile salmonids would be captured (using a floating beach seine), counted, measured, checked for adipose fin clips, and released. Pentec does not intend to kill any of the fish being captured, but a small number may die as an unintended result of the activities.

Permit 1372—Modification 1

The Puget Sound Energy, Incorporated (PSE) is requesting a 5-year research permit to take adult and juvenile PS Chinook salmon. It would also take juvenile PS steelhead. The purposes of the research are to (1) identify the numbers of redds of listed species in the Skagit River downstream from its confluence of the Baker River, (2) identify the timing and distribution of Chinook salmon spawning in the middle Skagit River, and (3) collect tissue samples from bull trout in the Baker River basin. Adult PS Chinook would be observed and harassed during redd counts and spawning surveys. The research would benefit PS Chinook by providing resource managers with information to improve management of the Baker River Hydroelectric Project. The Baker River bull trout study would not target PS Chinook, but juvenile Chinook may be captured (using backpack electrofishing equipment), handled, and released. The PSE does not intend to kill any of the juvenile fish being captured, but a small number may die as an unintended result of the activities.

Permit 1386—Modification 2

The Washington State Department of Ecology (DOE) is requesting a 5-year research permit to take all fish species identified in this notice while conducting research throughout the State of Washington. It would also take juvenile PS steelhead. The purpose of the research is to investigate and monitor toxic contaminants in fish tissues and freshwater environments in Washington. The research is part of the Washington State Toxics Monitoring Program. The listed species would benefit from the development of actions to control, reduce, and remove toxic contaminants from Washington State's waters. The DOE would capture fish (using nets, seines, backpack electrofishing equipment, and hook and line), handle, and release them. The DOE does not intend to kill any listed fish, but a small number may die as an unintended result of the activities.

Permit 1498—Modification 1

The Port of Bellingham (POB) is requesting a 1-year research permit to take juvenile PS Chinook salmon. It would also take juvenile PS steelhead. The purpose of the research is to monitor PS Chinook in newly created habitat in northern Bellingham Bay, Washington. As mitigation for dredging projects, the POB created that habitat (a subtidal sediment bench) west of Squalicum Harbor. Under permit 1498, the POB has monitored the mitigation site since 2005, but the permit is due to expire on December 31, 2006. The subtidal sediment bench was designed to improve Chinook salmon rearing habitat, and the research would benefit the species by helping managers learn the effectiveness of these mitigation measures. Fish would be captured (using beach seines and enclosure nets), anesthetized, measured, allowed to recover from the anesthesia, and released. The POB does not intend to kill any of the fish being captured, but a small number may die as an unintended result of the activities.

Permit 1521—Modification 1

Wyllie-Echeverria Associates (WEA) is requesting a 3-year research permit to take juvenile PS Chinook salmon. It would also take juvenile PS steelhead. The purpose of the research is to identify which salmonid species and Chinook salmon stocks use intertidal beaches and subtidal eelgrass meadows at representative sites near San Juan, Orcas, Shaw, Lopez, Jones, and Waldron Islands, Washington. This research would benefit PS Chinook by helping managers set priorities for protecting nearshore habitats. The WEA proposes to capture fish with beach seines, toss nets, and surface tow nets. Captured fish would be identified, counted, checked for tags or marks, measured, and released. Fin-clip samples would be collected for genetic analysis from an anesthetized subsample of juvenile PS Chinook. These anesthetized fish would be allowed to recover from the anesthetic before being released. The WEA does not intend to kill any of the fish being captured, but a small number may die as an unintended result of the activities.

Permit 1585

The Washington State Department of Natural Resources (DNR) is requesting a 5-year research permit to take juvenile PS Chinook and HC chum salmon. It would also take juvenile PS steelhead. The purpose of the research is to determine the presence and distribution of salmonids on DNR lands in the Puget Sound basin. The research would benefit listed salmonids by helping to improve management decisions. Fish would be captured (using backpack electrofishing equipment), handled, and released. The DNR does not intend to kill any of the fish being captured, but a small number my die as an unintended result of the activities.

Permit 1586

The Northwest Fisheries Science Center, Fish Ecology Division (FED) is requesting a 5-year research permit to take juvenile PS Chinook and HC chum salmon. It would also take juvenile PS steelhead. The purpose of the research is to characterize how wild, juvenile PS Chinook salmon use nearshore habitats in Whidbey Basin, Admiralty Inlet, the Strait of Juan de Fuca, and the San Juan Islands. Additional goals are to define what life history strategies are present in these areas, and identify their residence time, distribution, timing of movements, diet, health, age, and origin. This research would benefit the listed species by helping managers develop protection and restoration strategies and monitor the effects of recovery actions. Fish would be captured (using beach seines, townets, purse seines, and lampera nets), temporarily held (in live-wells, mesh pens, aerated buckets, or in the bag of the net before processing), separated into salmonids and non-salmonids, anesthetized, measured, weighed, checked for tags or marks, fin-clipped, allowed to recover from anesthesia, and released. A subsample of juvenile PS Chinook would be tagged with acoustic transmitters. A small portion of the captured juvenile PS Chinook would be killed for whole body analysis, but the great majority are not intended to be sacrificed.

Permit 1587

The U.S. Geological Survey, Western Fisheries Research Center (USGS) is requesting a 5-year research permit to take juvenile PS Chinook salmon. It would also take juvenile PS steelhead. The USGS proposes to conduct two studies: (1) U.S. Geological Survey Integrated Science Plan to Support Restoration of Puget Sound Deltas, The Skagit Delta Whidbey Basin Study; and (2) Effects of Urbanization of Nearshore Ecosystems in Puget Sound, Washington, Pilot Study in an Urban Embayment. The USGS would conduct study 2 in the nearshore marine waterways and inlets of east Kitsap County. The purpose of the research is to investigate the effects of urbanization on nearshore ecosystems. The research would benefit listed salmonids by serving as a basis for nearshore marine and estuarine habitat restoration and preservation plans. Non-salmonids are the target species in both studies, but PS Chinook may be unintentionally captured. The USGS would capture (using beach seines, dip nets, or cast nets, and angling), handle, and release PS Chinook salmon. The USGS does not intend to kill any of the PS Chinook being captured, but a small number may die as an unintended result of the activities.

Permit 1588

The U.S. Geological Survey, Western Fisheries Research Center (USGS) is requesting a 2-year research permit to take juvenile PS Chinook salmon in the Lake Washington basin and the south and central Puget Sound, Washington. It would also take juvenile PS steelhead. The purpose of the research is to develop and use otolith microstructure analysis to characterize the importance of lake and estuarine rearing habitats for Chinook salmon. The research would benefit PS Chinook by helping managers prioritize habitat protection and restoration. The USGS would capture (using dip nets and beach seines) and intentionally kill naturally produced juvenile PS Chinook in the Lake Washington basin. The USGS will also obtain and intentionally kill juvenile listed hatchery fish from multiple hatchery facilities in the south and central Puget Sound.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: November 2, 2006.
Marta Nammack,
Acting Chief, Endangered Species Division, Office of Protected Resources, National Marine Fisheries Service.

[FR Doc. E6-18866 Filed 11-7-06; 8:45 am]

BILLING CODE 3510-22-S